FEDERAL MARITIME COMMISSION

Ocean Transportation Intermediary License Applicants

Notice is hereby given that the following applicants have filed with the Federal Maritime Commission applications for licenses as Non-Vessel Operating Common Carrier and Ocean Freight Forwarder—Ocean Transportation Intermediaries pursuant to section 19 of the Shipping Act of 1984 as amended (46 U.S.C. app. 1718 and 46 CFR part 515).

Persons knowing of any reason why any of the following applicants should not receive a license are requested to contact the Office of Freight Forwarders, Federal Maritime Commission, Washington, DC 20573.

Non-Vessel-Operating Common Carrier Ocean Transportation Intermediary Applicants:

Logis Services of America, Inc., 3027 Marina Bay Drive, Suite 110, League City, TX 77573, Officers: Louis De Scioli, President (Qualifying Individual), Michael Reed, Secretary

USAS Express Int'l, Inc., 11099 S. La Cienega Blvd., Suite 265, Los Angeles, CA 90045, Officers: Hong S. Kim, Secretary (Qualifying Individual) Young II Choi, President

Vayer L.A., Inc., 11755 Sheldon Street, Sun Valley, CA 91352, Officers: Arik Hezroni, Treasurer (Qualifying Individual), Hasday Aroch, President

Gulf Logistics & Projects Co., Inc., 769 Bradfield Road, Houston, TX 77060, Officer: Jeong Dae Kim, President (Qualifying Individual)

ANA Link, Ltd., 177-25 Rockaway Blvd., Suite 205, Jamaica, NY 11434, Officer: Tal Y. Yo, President (Qualifying Individual)

C.F.L. Freight Service, Inc., 2089 S. Atlantic Blvd., Suite H, Monterey Park, CA 91754, Officers: Po-Hsun Huang, Secretary (Qualifying Individual) Bonnet Fan, President

Non-Vessel-Operating Common Carrier and Ocean Freight Forwarder Transportation Intermediary Applicants:

Global Caribbean, Inc., 12000 Biscayne Blvd., Suite 106, Miami, FL 33181, Officers: Sandra Rivera, Secretary (Qualifying Individual) Jose Luis Rivera, President

H.L.M. Cargo Corp. d/b/a Sea Line Express, 5567 NW, 72 Avenue, Miami, FL 33166, Officers: Nilo E. Villena, Jr., President (Qualifying Individual) Nilo E. Villena, Sr., Vice President

Dated: February 4, 2000.
Bryant L. VanBrakle,
Secretary.

[FR Doc. 00-2938 Filed 2-8-00; 8:45 am]

BILLING CODE 6730-01-P